DEPARTMENT OF COMMERCE

National Oceanic and Atmospheric Administration

Agency Information Collection Activities; Submission to the Office of Management and Budget (OMB) for Review and Approval; Comment Request; Alaska Saltwater Sportfishing Economic Survey

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on July 31, 2024 during a 60-day comment period. This notice allows for an additional 30 days for public comments.

Agency: National Oceanic and Atmospheric Administration, Commerce.

Title: Alaska Saltwater Sportfishing Economic Survey.

OMB Control Number: 0648-0639.

Form Number(s): None.

Type of Request: Regular submission [Reinstatement with revisions].

Number of Respondents: 4,263.

Average Hours per Response: 30 minutes.

Total Annual Burden Hours: 2,108.

Needs and Uses: This request is for reinstatement with changes to a previously approved information collection (OMB Control Number 0648-0639).

The National Marine Fisheries Service (NMFS) previously collected survey data in 2007, 2012, and 2017 for conducting economic analyses of marine sport fishing in Alaska. These surveys were necessary to understand the factors that affect marine recreational fishing and its economic value. The proposed update from the previously conducted mail survey is a push-to web survey focused on collecting data from a subset of the Alaska saltwater angler population that participated in a sport angling trip via a charter boat. The focus on the charter angler subpopulation is due to that population being of primary concern for fishery managers. This data collection is needed to improve estimates of fishing trip values potentially affected by changes in federal recreational fisheries off Alaska, including recent declines in populations of Pacific halibut and subsequent measures to manage harvest in the Alaska recreational charter fishing sector. Numerous questions in the questionnaire have been updated to better reflect, and understand the effects of, recent changes in Alaska marine recreational fisheries.

The Federal Government is responsible for the management of the Pacific halibut sport fishery off Alaska, while the State of Alaska manages the salmon sport fisheries (Chinook, coho, sockeye, chum, and pink), as well as several other saltwater sport fisheries. The updated survey's scope covers marine sport charter fishing for Pacific halibut, salmon, and other popular marine sport species in Alaska (e.g., lingcod and rockfish). The data collected from the survey will be used to update estimates of the demand for and value of Pacific halibut fishing to charter anglers and to analyze how the type of fish caught, fishery regulations, and other factors affect fishing values and anglers' decisions to participate in Alaska marine charter fishing activities. The economic information provided from the survey will help inform fishery managers about the economic values of Alaska marine charter halibut fisheries and the changes to participation in these fisheries with proposed regulations.

Affected Public: Individuals or households.

Frequency: Once.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0639.

Sheleen Dumas,
Departmental PRA Compliance Officer, Office of the Under Secretary for Economic Affairs, Commerce Department.

[FR Doc. 2025-10300 Filed 6-5-25; 8:45 am]

BILLING CODE 3510-22-P